DEPARTMENT OF TRANSPORTATION

Federal Aviation Administration

14 CFR Part 39

[Docket No. FAA-2004-19556; Directorate Identifier 2004-CE-37-AD; Amendment 39-13887; AD 2004-24-11]

RIN 2120-AA64

Airworthiness Directives; Schempp-Hirth Flugzeugbau GmbH Model Duo-Discus Gliders

AGENCY: Federal Aviation Administration (FAA), DOT.

ACTION: Final rule; request for comments.

SUMMARY: The FAA is adopting a new airworthiness directive (AD) for certain Schempp-Hirth (SCHEMPP-HIRTH) Flugzeugbau GmbH Model Duo-Discus gliders. This AD requires you to do a one-time inspection of the bonding of the spar cap and spar web and repair any defective bonding of the spar cap and spar web. This AD is the result of mandatory continuing airworthiness information (MCAI) issued by the airworthiness authority for Germany. The actions specified by this AD are intended to detect and correct failure of the bonding of the spar cap and spar web, which, if not detected and corrected, could result in an in-flight wing failure.

DATES: This AD becomes effective on December 30, 2004.

As of December 30, 2004, the Director of the Federal Register approved the incorporation by reference of certain publications listed in the regulation.

We must receive any comments on this AD by January 3, 2005.

ADDRESSES: Use one of the following to submit comments on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this AD, contact Schempp-Hirth Flugzeugbau GmbH, Postfach 1443, 73222 Kircheim/Teck, Federal Republic of Germany; telephone: 49 7021 7298-0; facsimile: 49 7021 7298-199.

To view the comments to this AD, go to http://dms.dot.gov. The docket number is FAA-2004-19556.

FOR FURTHER INFORMATION CONTACT: Gregory Davison, Aerospace Engineer, FAA, Small Airplane Directorate, Room 301, 901 Locust, Kansas City, Missouri 64106; telephone: (816) 329-4130; facsimile: (816) 329-4090.

SUPPLEMENTARY INFORMATION:

Discussion

What events have caused this AD? The Luftfahrt-Bundesamt (LBA), which is the airworthiness authority for Germany, reported to FAA that an in-flight failure of the wing structure at maneuvering loads had occurred on a SCHEMPP-HIRTH Model Duo-Discus glider within the serial number range of 165 through 389. Analysis indicated failure in the bonding of the spar cap and spar web.

This condition caused us to issue AD 2003-16-51, Amendment 39-13282 (68 FR 50055, August 20, 2003). AD 2003-16-51 requires you to do a one-time inspection of the bonding of the spar cap and spar web and repair any defective bonding of the spar cap and spar web.

The LBA notified us of additional reports of bonding problems of the spar cap and spar web on Model Duo-Discus gliders, serial numbers 1 through 164.

What is the potential impact if FAA took no action? This condition, if not detected and corrected, could cause the spar cap and spar web to fail. This failure could result in an in-flight wing failure.

Is there service information that applies to this subject? SCHEMPP-HIRTH has issued Technical Note No. 396-9, dated January 30, 2004, and Appendix to Technical Note No. 396-9, dated January 30, 2004.

What are the provisions of this service information? This service information includes procedures for:

—Inspecting the bonding of the spar cap and spar web; and

—Repairing any defective bonding of the spar cap and spar web.

What action did the LBA take? The LBA classified this service information as mandatory and issued German AD Number D-2004-084, dated February 4, 2004, to ensure the continued airworthiness of these gliders in Germany.

Did the LBA inform the United States under the bilateral airworthiness agreement? These SCHEMPP-HIRTH Model Duo-Discus gliders are manufactured in Germany and are type-certificated for operation in the United States under the provisions of section 21.29 of the Federal Aviation Regulations (14 CFR 21.29) and the applicable bilateral airworthiness agreement.

Under this bilateral airworthiness agreement, the LBA has kept us informed of the situation described above.

FAA's Determination and Requirements of This AD

What has FAA decided? We have examined the LBA's findings, reviewed all available information, and determined that we need to issue an AD for products of this type design that are certificated for operation in the United States.

Since the unsafe condition described previously is likely to exist or develop on these SCHEMPP-HIRTH Model Duo-Discus gliders (serial numbers 1 through 164) of the same type design that are registered in the United States, we are issuing this AD to detect and correct failure of the bonding of the spar cap and spar web, which if not detected and corrected, could result in an in-flight wing failure.

What does this AD require? This AD requires you to incorporate the actions in the previously-referenced service bulletin.

How does the revision to 14 CFR part 39 affect this AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Comments Invited

Will I have the opportunity to comment before you issue the rule? This AD is a final rule that involves requirements affecting flight safety and was not preceded by notice and an opportunity for public comment; however, we invite you to submit any written relevant data, views, or arguments regarding this AD. Send your comments to an address listed under ADDRESSES. Include the docket number, “FAA-2004-19556; Directorate Identifier 2004-CE-37-AD” at the beginning of your comments. We will post all comments we receive, without change, to http://dms.dot.gov, including any personal information you provide. We will also post a report summarizing each substantive verbal contact with FAA personnel concerning this AD.

Using the search function of our docket Web site, anyone can find and read the comments received into any of our dockets, including the name of the individual who sent the comment (or signed the comment on behalf of an association, business, labor union, etc.). This is docket number FAA-2004-19556. You may review the DOT's complete Privacy Act Statement in the Federal Register published on April 11, 2000 (65 FR 19477-78), or you may visit http://dms.dot.gov.

Are there any specific portions of this AD I should pay attention to? We specifically invite comments on the overall regulatory, economic, environmental, and energy aspects of this AD. If you contact us through a nonwritten communication and that contact relates to a substantive part of this AD, we will summarize the contact and place the summary in the docket. We will consider all comments received by the closing date and may amend this AD in light of those comments and contacts.

Docket Information

Where can I go to view the docket information? You may view the AD docket that contains the AD, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “Docket No. FAA-2004-19556; Directorate Identifier 2004-CE-37-AD” in your request.

This rulemaking is promulgated under the authority in Subtitle VII, Part A, Subpart III, Section 44701, General requirements. Under that section, the FAA is charged with prescribing minimum standards required in the interest of safety for the design of aircraft. This regulation is within the scope of that authority since it corrects an unsafe condition in the design of the aircraft caused by defective bonding of the spar cap to the spar web.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2004-24-11 Schempp-Hirth Flugzeugbau GmbH: Amendment 39-13887; Docket No. FAA-2004-19556; Directorate Identifier 2004-CE-37-AD.

When Does This AD Become Effective?

(a) This AD becomes effective on December 30, 2004.

Are Any Other ADs Affected by This Action?

(b) None.

What Gliders Are Affected by This AD?

(c) This AD affects Model Duo-Discus gliders, serial numbers 1 through 164, that are certificated in any category

What Is the Unsafe Condition Presented in This AD?

(d) This AD is the result of mandatory continuing airworthiness information (MCAI) issued by the airworthiness authority for Germany. The actions specified by this AD are intended to detect and correct failure of the bonding of the spar cap and spar web, which, if not detected and corrected, could result in an in-flight failure of the wing.

What Must I Do To Address This Problem?

(e) To address this problem, you must do the following, unless already done:

Actions | Compliance | Procedures
(1) Inspect the bonding between the spar cap and the spar web for defects | Within the next 10 hours time-in-service (TIS) after December 30, 2004 (the effective date of this AD) | Follow SCHEMPP-HIRTH Flugzeugbau GmbH. Kircheim/Teck Technical Note No. 396-9, dated January 30, 2004; and SCHEMPP-HIRTH Flugzeugbau GmbH. Kircheim/Teck Appendix to Technical Note No. 396-9, dated January 30, 2004.
(2) Repair any defect in the bonding between the spar cap and the spar web | Prior to further flight after the inspection required by paragraph (e)(1) of this AD | Follow SCHEMPP-HIRTH Flugzeugbau GmbH. Kircheim/Teck Technical Note No. 396-9, dated January 30, 2004; SCHEMPP-HIRTH Flugzeugbau GmbH. Kircheim/Teck Appendix to Technical Note No. 396-9, dated January 30, 2004; and the applicable maintenance manual.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Gregory Davison, Aerospace Engineer, FAA, Small Airplane Directorate, Room 301, 901 Locust, Kansas City, Missouri 64106; telephone: (816) 329-4130; facsimile: (816) 329-4090.

Is There Other Information That Relates to This Subject?

(g) German AD Number D-2004-084, dated February 4, 2004, also addresses the subject of this AD.

Does This AD Incorporate Any Material by Reference?

(h) You must do the actions required by this AD following the instructions in SCHEMPP-HIRTH Flugzeugbau GmbH. Kircheim/Teck Technical Note No. 396-9, dated January 30, 2004; and SCHEMPP-HIRTH Flugzeugbau GmbH. Kircheim/Teck Appendix to Technical Note No. 396-9, dated January 30, 2004. The Director of the Federal Register approved the incorporation by reference of this service bulletin in accordance with 5 U.S.C. 552(a) and 1 CFR part 51. To get a copy of this service information, contact Schempp-Hirth Flugzeugbau GmbH, Postfach 1443, 73222 Kircheim/Teck, Federal Republic of Germany; telephone: 49 7021 7298-0; facsimile: 49 7021 7298-199. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2004-19556.

Issued in Kansas City, Missouri, on November 26, 2004.
James E. Jackson,
Acting Manager, Small Airplane Directorate, Aircraft Certification Service.

[FR Doc. 04-26640 Filed 12-8-04; 8:45 am]

BILLING CODE 4910-13-P